DEPARTMENT OF HOUSING AND URBAN DEVELOPMENT

[Docket No. FR-5376-N-111]

Notice of Submission of Proposed Information Collection to OMB; Emergency Comment Request Rural Innovation Fund; Notice of Proposed Information Collection for Public Comment

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

The Rural Innovation Fund (Rural Fund) is authorized pursuant to the Consolidated Appropriations Act, 2010, Public Law 111-117. Rural Fund is designed to provide support for highly targeted and innovative grants dedicated to addressing the problems of concentrated rural housing distress and community poverty for projects that demonstrate a great likelihood of substantial impact in addressing the housing needs and community poverty in the project area.

DATES: Comments Due Date: December 8, 2010.

ADDRESSES: Interested persons are invited to submit comments regarding this proposal. Comments must be received within fourteen (14) days from the date of this Notice. Comments should refer to the proposal by name/or OMB approval number and should be sent to: Ross A. Rutledge, HUD Desk Officer, Office of Management and Budget, New Executive Office Building, Washington, DC 20503; e-mail: Ross.A.Rutledge@omb.eop.gov; fax: 202-395-3086.

FOR FURTHER INFORMATION CONTACT: Colette Pollard, Departmental Reports Management Officer, QDAM, Department of Housing and Urban Development, 451 7th Street, SW., Washington, DC 20410; e-mail Colette.Pollard@HUD.gov; telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Rural Innovation Fund

Description of Information Collection: The Rural Innovation Fund (Rural Fund) is authorized pursuant to the Consolidated Appropriations Act, 2010, Public Law 111-117. Rural Fund is designed to provide support for highly targeted and innovative grants dedicated to addressing the problems of concentrated rural housing distress and community poverty for projects that demonstrate a great likelihood of substantial impact in addressing the housing needs and community poverty in the project area.

OMB Control Number: 2506-NEW

Agency Form Numbers: SF 424, Application for Federal Assistance; SF 424 Supplement, Survey on Ensuring Equal Opportunity; HUD 424 CB, Detailed Budget; HUD 424 CBW Detailed Budget Worksheet; HUD 2991, Consistency with the Consolidated Plan; SF LLL, Disclosure of Lobbying Activities, not applicable to Federally recognized Indian tribes; HUD 27061, Race and Ethnic Data; HUD-96010, Logic Model; HUD 27300, America's Affordable Communities Initiative; HUD-2880, Applicant/Recipient Disclosure Update Report; HUD 2994 A, Grant Application Survey; SF 1199 A, Direct Deposit; HUD 27054, Voice Response Authorization System; HUD 27054 A, LOCCS Request Voucher; SF 425, Financial Status Report; HUD 2990, RC/EZ/EC-II Certification; SF PPR-E Activity Based Expenditure Report; HUD 6002, Economic Opportunity for Low-and-Very Low Income Persons In Connection With Assisted Projects.

Members of Affected Public: Local rural nonprofit organizations, community development corporations, federally recognized Indian tribes, state housing finance agencies, and state community and/or economic development agencies eligible to address the problem of concentrated rural housing distress and community poverty in rural areas and promote economic development and entrepreneurship as described in The Consolidated Appropriations Action 2010, Public Law 111-117, under the HUD provision for the Rural Innovation Fund.

Estimation of the total numbers of hours needed to prepare the information collection including number of respondents, frequency of responses, and hours of response:

Number of respondents | Frequency of responses | Total responses
250 | 78 | 19,500
85 | 62 | 5,270
Total |  | 24,770

Authority: The Paperwork Reduction Act of 1995, 44 U.S.C. Chapter 35, as amended.

Dated: November 18, 2010.
Colette Pollard,
Departmental Reports Management Officer, Office of the Chief Information Officer.

[FR Doc. 2010-29653 Filed 11-23-10; 8:45 am]

BILLING CODE 4210-67-P